DEPARTMENT OF ENERGY

Federal Energy Regulatory Commission

[Docket No. ER03-343-004, et al.]

ITC Holdings Corp., et al.; Electric Rate and Corporate Filings

March 3, 2004.

The following filings have been made with the Commission. The filings are listed in ascending order within each docket classification.

1. ITC Holdings Corp., et al.; The Detroit Edison Company

[Docket Nos. ER03-343-004; ER03-576-002]

Take notice that on February 27, 2004, The Detroit Edison Company (Detroit Edison) tendered for filing with the Commission a letter agreement and accompanying schedule (collectively, the Letter Agreement) between Detroit Edison and International Transmission Company (ITC) which seeks to extend on a limited basis the Service Level Agreement (C&M Service Agreement)—Construction and Maintenance/ Engineering/System Operations, dated February 28, 2003. Detroit Edison states that it has entered into the Letter Agreement in order to ensure that ITC will continue to have the necessary staff and resources to reliably operate its jurisdictional transmission facilities located in southeastern Michigan until such time that it completes its transition to full operational independence.

Comment Date: March 19, 2004.

2. PJM Interconnection, L.L.C.

[Docket No. ER03-406-004]

Take notice that on February 27, 2003, PJM Interconnection, L.L.C. (PJM) submitted revisions to the PJM Open Access Transmission Tariff and the Amended and Restated Operating Agreement of PJM Interconnection, L.L.C. to address credit requirements for conversion of auction revenue rights to financial transmission rights (FTRs), and the initial allocation of FTRs in new zones. PJM states that it proposes an effective date of February 28, 2004 for the proposed revisions.

PJM states that copies of the filing were served on all PJM members, the utility regulatory commissions in the PJM region, and all persons on the Commission's service list for this proceeding.

Comment Date: March 19, 2004.

3. American Home Energy Corporation

[Docket No. ER04-590-000]

Take notice that on February 27, 2004 American Home Energy Corporation, tendered for filing a Notice of Cancellation of their market-based rate authority in Docket No. ER98-1903-000 to be effective immediately.

Comment Date: March 19, 2004.

4. Southern Company Services, Inc.

[Docket No. ER04-591-000]

Take notice that on February 27, 2004, Southern Company Services, Inc. (SCS), on behalf of Alabama Power Company, Georgia Power Company, Mississippi Power Company, Gulf Power Company and Savannah Electric and Power Company, tendered for filing amendments to unit power sales agreements with Florida Power and Light Company, Florida Power Corporation and Jacksonville Electric Authority.

Comment Date: March 19, 2004.

5. Ocean State Power II

[Docket No. ER04-592-000]

Take notice that on February 27, 2004, Ocean State Power II (Ocean State II) tendered for filing revised pages to Rate Schedule FERC Nos. 5-8, which update Ocean State II's rate of return on equity with respect to such rate schedules. Ocean State II requests an effective date for the rate schedule changes of April 27, 2004.

Ocean State II states that copies of the Supplements have been served upon, Ocean State II's power purchasers, the Commonwealth of Massachusetts Department of Telecommunications and Energy, and the Rhode Island Public Utilities Commission.

Comment Date: March 19, 2004.

6. Ocean State Power

[Docket No. ER04-593-000]

Take notice that on February 27, 2004, Ocean State Power (Ocean State) tendered for filing revised pages to Rate Schedule FERC Nos. 1-4, which update Ocean State's rate of return on equity with respect to such rate schedules. Ocean State requests an effective date for the rate schedule changes of April 27, 2004.

Ocean state states that copies of the Supplements have been served upon, Ocean State's power purchasers, the Commonwealth of Massachusetts Department of Telecommunications and Energy, and the Rhode Island Public Utilities Commission.

Comment Date: March 19, 2004.

7. Commonwealth Edison Company

[Docket No. ER04-594-000]

Take notice that on February 27, 2004, Commonwealth Edison Company (ComEd) submitted for filing five unexecuted Service Agreements entered into between ComEd and Edison Mission Marketing & Trading Inc. (EMMT) under ComEd's Open Access Transmission Tariff. ComEd requests an effective date of April 1, 2004 for all of the Service Agreements.

ComEd states that copies of the filing were served upon EMMT and the Illinois Commerce Commission. Comment Date: March 19, 2004.

8. Commonwealth Edison Company

[Docket No. ER04-595-000]

Take notice that on February 27, 2004 Commonwealth Edison Company (ComEd) submitted for filing an unexecuted Amended Interconnection Agreement (IA) between ComEd and Cordova Energy Company LLC (Cordova) designated as FERC Electric Tariff, Second Revised Volume No. 5, Original Service Agreement No. 764. In addition, ComEd submitted for filing a Notice of Cancellation of FERC Rate Schedule No. 54.

Comment Date: March 19, 2004.

9. Commonwealth Edison Company

[Docket No. ER04-96-000]

Take notice that on February 27, 2004 Commonwealth Edison Company (ComEd) submitted for filing an unexecuted Amended Interconnection Agreement (IA) between ComEd and Allegheny Energy Supply Lincoln Generating Facility, LLC (previously Des Plaines Green Land Development, LLC) (Allegheny) designated as FERC Electric Tariff, Second Revised Volume No. 5, Original Service Agreement No. 765. In addition, ComEd submitted for filing a notice of cancellation of FERC Rate Schedule No. 55.

Comment Date: March 19, 2004.

10. Commonwealth Edison Company

[Docket No. ER04-597-000]

Take notice that on February 27, 2004, Commonwealth Edison Company (ComEd) submitted for filing an unexecuted Amended Interconnection Agreement between ComEd and LSP-Kendall Energy, LLC (LSP-Kendall) designated as FERC Electric Tariff, Second Revised Volume No. 5, Original Service Agreement No. 762. In addition, ComEd submitted for filing a notice of cancellation of FERC Rate Schedule No. 52.

Comment Date: March 19, 2004.

11. PJM Interconnection, L.L.C.

[Docket No. ER04-598-000]

Take notice that on February 27, 2004, PJM Interconnection, L.L.C. (PJM), submitted for filing revisions to Schedule 6A (Black Start Service) of the PJM Open Access Transmission Tariff to permit more flexibility in the recovery of fixed costs associated with providing black start service. PJM requests an effective date of April 28, 2004 for the amendment.

PJM states that copies of this filing have been served on all PJM members, and each state electric utility regulatory commission in the PJM region.

Comment Date: March 19, 2004.

12. Commonwealth Edison Company

[Docket No. ER04-599-000]

Take notice that on February 27, 2004, Commonwealth Edison Company (ComEd) submitted for filing an executed Amended Interconnection Agreement (IA) between ComEd and Elwood Energy LLC (Elwood) designated as FERC Electric Tariff, Second Revised Volume No. 5, Original Service Agreement No. 763. In addition, ComEd submitted for filing a notice of cancellation of FERC Rate Schedule No. 47.

Comment Date: March 19, 2004.

13. Carolina Power & Light Company

[Docket No. ER04-600-000]

Take notice that on February 27, 2004, Progress Energy, Inc. (Progress Energy) on behalf of its subsidiary Carolina Power & Light Company (CP&L) d/b/a Progress Energy Carolinas, Inc., tendered for filing a Service Agreement for Network Integration Transmission Service and a Network Operating Agreement with French Broad Electric Membership Corporation. CP&L is requesting an effective date of February 1, 2004.

Progress Energy states that a copy of the filing was served upon the North Carolina Utilities Commission and the South Carolina Public Service Commission.

Comment Date: March 19, 2004.

14. Commonwealth Edison Company

[Docket No. ER04-606-000]

Take notice that on February 27, 2004, Commonwealth Edison Company (ComEd) tendered for filing with the Federal Energy Regulatory Commission (Commission) amendments to Interconnection Agreements entered into between ComEd and Midwest Generation, LLC (MWGen) designated as FERC Electric Tariff, Second Revised Volume No. 5, Original Service Agreements 749 through 761. In addition, ComEd submitted for filing a Notice of Cancellation of FERC Rate Schedule Nos. 49, 50 and 51. ComEd requests an April 27, 2004 effective date for the Service Agreements and cancellation of the Rate Schedules.

ComEd states that copies of the filing were served on MWGen and the Illinois Commerce Commission.

Comment Date: March 19, 2004.

15. Douglas R. Oberhelman

[Docket No. ID-3998-000]

Take notice that on February 17, 2004, Douglas R. Oberhelman (Applicant) filed, pursuant to the provisions of Section 305(b) of the Federal Power Act 16 U.S.C. 825d(b), and Part 45 of the Regulations of the Federal Energy Regulatory Commission, under, 18 CFR part 45, for authorization to hold interlocking positions.

Comment Date: March 17, 2004.

Standard Paragraph

Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-536 Filed 3-10-04; 8:45 a.m.]

BILLING CODE 6717-01-P